DEPARTMENT OF ENERGY

Federal Energy Regulatory Commission

Notice of Staff Attendance at the North American Electric Reliability Corporation Compliance and Certification Committee Meetings

The Federal Energy Regulatory Commission hereby gives notice that members of the Commission and/or Commission staff may attend the following meeting:

Compliance and Certification Committee

ERCOT Austin Offices, 8000 Metropolis Blvd., Building E, Suite 100, Austin, TX 78744

April 26, 2023, 9:00 a.m.-5:00 p.m. Central

April 27, 2023, 9:00 a.m.-12:00 p.m. Central

Further information regarding these meetings may be found at: https://www.nerc.com/Pages/Calendar.aspx.

The discussions at the meetings, which are open to the public, may address matters at issue in the following Commission proceeding:

Docket Nos. RD22-4-000, RD22-4-001 Registration of Inverter-Based Resources

For further information, please contact Leigh Anne Faugust (202) 502-6396 or leigh.faugust@ferc.gov.

Dated: April 20, 2023.
Debbie-Anne A. Reese,
Deputy Secretary.

[FR Doc. 2023-08786 Filed 4-25-23; 8:45 am]

BILLING CODE 6717-01-P